DEPARTMENT OF ENERGY

Federal Energy Regulatory Commission

[Docket Nos. CP04-114-000, CP04-115-000]

Compass Pass Pipeline L.L.C.; Notice of Effectiveness of Withdrawal and Termination of Proceeding

November 17, 2006.

On April 16, 2004, Compass Pass Pipeline LLC (Compass Pass) filed an application, in Docket No. CP04-114-000, pursuant to section 7(c) of the Natural Gas Act (NGA) for a certificate of public convenience and necessity to construct, own, and operate a 36-inch diameter natural gas pipeline facilities extending approximately 5 miles from the high water mark at the shoreline of the Gulf of Mexico to interconnections with interstate gas pipelines located near Coden, Mobile County, Alabama. Compass Pass also requested, in Docket No. CP04-115-000, a blanket construction certificate under Part 157, Subpart F of the Commission's regulations.

On October 31, 2006, Compass Pass filed a notice of withdrawal of the applications. No motion in opposition to the notice of withdrawal has been filed with the Commission and the Commission did not disallow the withdrawal. Pursuant to 18 CFR 385.216(b), this withdrawal was effective November 16, 2006, 15 days from the date of filing of the notice of withdrawal.

Magalie R. Salas,
Secretary.

[FR Doc. E6-19953 Filed 11-24-06; 8:45 am]

BILLING CODE 6717-01-P